DEPARTMENT OF JUSTICE

Notice of Lodging of Proposed Consent Decree Under the Clean Air Act

On December 10, 2024, the Department of Justice lodged a proposed Consent Decree with the United States District Court for the Western District of Pennsylvania in the lawsuit entitled United States and Commonwealth of Pennsylvania v. PennEnergy Resources, LLC, Civil Action No. 2:24-cv-01675.

The lawsuit seeks injunctive relief and civil penalties for violations of the Clean Air Act and its implementing regulations at oil and natural gas production facilities owned and operated by PennEnergy Resources, LLC (“PennEnergy”) in Butler County, Pennsylvania. The violations relate to alleged failures to adequately design, operate, and maintain storage tank vapor control systems, resulting in emissions of volatile organic compounds (“VOC”) and other pollutants to the atmosphere.

The proposed Consent Decree covers 49 PennEnergy facilities in Pennsylvania. The proposed decree requires PennEnergy to perform injunctive relief, including conducting engineering evaluations of the vapor control systems at each of the controlled well pads to ensure that they are adequately sized and designed, and complete an environmental mitigation project. PennEnergy must also pay a civil penalty of $2,000,000. Entering into and fully complying with the proposed Consent Decree would release PennEnergy from past civil liability for violations of Clean Air Act Title V and Clean Air Act regulations applicable to new and modified storage vessels and related state law at the facilities subject to the proposed consent decree.

The publication of this notice opens a period for public comment on the proposed Consent Decree. Comments should be addressed to the Assistant Attorney General, Environment and Natural Resources Division, and should refer to United States and Commonwealth of Pennsylvania v. PennEnergy Resources, LLC, D.J. Ref. No. 90-5-2-1-12465. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the proposed Consent Decree may be examined and downloaded at this Justice Department website: https://www.justice.gov/enrd/consent-decrees. If you require assistance accessing the proposed Consent Decree, you may request assistance by email or by mail to the addresses provided above for submitting comments.

Jason A. Dunn,
Assistant Section Chief, Environmental Enforcement Section, Environment and Natural Resources Division.

[FR Doc. 2024-29524 Filed 12-13-24; 8:45 am]

BILLING CODE P